Proclamation 7833 of October 15, 2004

White Cane Safety Day, 2004

By the President of the United States of America

A Proclamation

To help increase their mobility and assist them in their daily lives, many people who are blind or visually impaired use a white cane. On White Cane Safety Day, we celebrate the symbolism of this important tool and the enduring spirit of independence and determination shown by Americans who use it.

In 1964, President Lyndon B. Johnson signed the first Presidential proclamation for White Cane Safety Day. He wrote that the observance would “make our people more fully aware of the meaning of the white cane” and help increase the safety and self-reliance of our citizens who are blind or visually impaired. Over the last four decades, our Nation has removed many barriers for these individuals, making it easier for them to find jobs, access public buildings, and live independently in their communities.

Today, we are working to ensure that all Americans with disabilities have the opportunity to live with dignity, work productively, and realize their full potential. Through the New Freedom Initiative, my Administration continues to build on the progress of the Americans with Disabilities Act of 1990 (ADA) to further promote the full participation of people with disabilities in all areas of society. The Department of Justice's ADA Business Connection is helping create a better understanding of ADA requirements and promote dialogue between the business community and the disability community. And the Department of Justice's Project Civic Access is improving public facilities to ensure that people with disabilities are integrated into community life. Through the Ticket to Work program and the Work Incentives Improvement Act, we are making significant strides toward building an America where all individuals are recognized for their talents and creativity. These efforts will help provide Americans who are blind or visually impaired the opportunity to pursue their dreams and realize the promise of our great country.

The Congress, by joint resolution (Public Law 88-628) approved on October 6, 1964, as amended, has designated October 15 of each year as “White Cane Safety Day.”

NOW, THEREFORE, I, GEORGE W. BUSH, President of the United States of America, do hereby proclaim October 15, 2004, as White Cane Safety Day. I call upon public officials, business leaders, educators, librarians, and all the people of the United States to join with me in ensuring that all the benefits and privileges of life in our Nation are available to individuals who are blind and visually impaired, and to observe this day with appropriate ceremonies, activities, and programs.

IN WITNESS WHEREOF, I have hereunto set my hand this fifteenth day of October, in the year of our Lord two thousand four, and of the Independence of the United States of America the two hundred and twenty-ninth.

B

[FR Doc. 04-23622

Filed 10-19-04; 8:45 am]

Billing code 3195-01-P